FEDERAL COMMUNICATIONS COMMISSION

47 CFR Part 73

[MB Docket No. 22-376; RM-11934; DA 23-20; FR ID 122718]

Television Broadcasting Services Norwell, Massachusetts

AGENCY: Federal Communications Commission.

ACTION: Final rule.

SUMMARY: On October 27, 2022, the Media Bureau, Video Division (Bureau) issued a Notice of Proposed Rulemaking (NPRM) in response to a petition for rulemaking filed by RNN Boston License Co., LLC (Petitioner), the licensee of WWMD (Station), channel 10, Norwell, Massachusetts, requesting the substitution of channel 36 for channel 10 at Norwell in the Table of TV Allotments. For the reasons set forth in the Report and Order referenced below, the Bureau amends FCC regulations to substitute channel 36 for channel 10 at Norwell.

DATES: Effective January 17, 2023.

FOR FURTHER INFORMATION CONTACT: Joyce Bernstein, Media Bureau, at (202) 418-1647 or Joyce.Bernstein@fcc.gov.

SUPPLEMENTARY INFORMATION: The proposed rule was published at 87 FR 68432 on November 15, 2022. The Petitioner filed comments in support of the petition reaffirming its commitment to apply for channel 36. No other comments were filed.

The Bureau believes the public interest would be served by substituting channel 36 for channel 10 at Norwell, Massachusetts. The Station has received many complaints from viewers unable to receive a reliable signal on VHF channel 10, and the Petitioner further states that the Commission has recognized the deleterious effects manmade noise has on the reception of digital VHF signals, and that the propagation characteristics of these channels allow undesired signals and noise to be receivable at relatively farther distances compared to UHF channels, and nearby electrical devices can cause interference. An analysis conducted using the Commission's TVStudy software tool indicates that WWDP's proposed channel substitution is predicted to create areas where viewers may lose service. However, the Bureau believes any possible harm resulting from the loss of service to some viewers is outweighed by the overall benefit of improving reception to the Station's viewers, including in the Station's community of license. Moreover, the viewers in the loss area are already well-served by five or more stations and no viewers will lose service from one of the four major networks or any noncommercial educational station. As the Petitioner points out, the Commission is generally most concerned where there is a loss of an area's only network or noncommercial educational TV service, or where the loss results in an area becoming less that well-served, i.e., served by fewer than five full-power stations.

This is a synopsis of the Commission's Report and Order, MB Docket No. 22-376; RM-11934; DA 23-20, adopted January 9, 2023, and released January 9, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under Massachusetts, by revising the entry for Norwell to read as follows:

§ 73.622 Table of TV Allotments.

* * * * *

(j) * * *

Community | Channel No.
* * * * *
MASSACHUSETTS
* * * * *
Norwell | 36
* * * * *

[FR Doc. 2023-00617 Filed 1-13-23; 8:45 am]

BILLING CODE 6712-01-P